DEPARTMENT OF HOMELAND SECURITY

Federal Emergency Management Agency

[Docket ID FEMA-2019-0002; Internal Agency Docket No. FEMA-B-1953]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Pima | City of Tucson (19-09-0058P) | The Honorable Jonathan Rothschild, Mayor, City of Tucson, City Hall, 255 West Alameda Street, 10th Floor, Tucson, AZ 85701 | Planning and Development Services, Public Works Building, 201 North Stone Avenue, Tucson, AZ 85701 | https://msc.fema.gov/portal/advanceSearch | Nov. 18, 2019 | 040076
Pima | Unincorporated Areas of Pima County, (19-09-0058P) | The Honorable Richard Elias, Chairman, Board of Supervisors, Pima County, 130 West Congress Street, 11th Floor, Tucson, AZ 85701 | Pima County Flood Control District, 201 North Stone Avenue, 9th Floor, Tucson, AZ 85701 | https://msc.fema.gov/portal/advanceSearch | Nov. 18, 2019 | 040073
California:
Napa | Unincorporated Areas of Napa County, (18-09-1735P) | The Honorable Ryan Gregory, Chairman, Board of Supervisors, Napa County, 1195 3rd Street, Suite 310, Napa, CA 94559 | Napa County, Public Works Department, 1195 3rd Street, Suite 101, Napa, CA 94559 | https://msc.fema.gov/portal/advanceSearch | Nov. 4, 2019 | 060205
Orange | City of Fountain Valley, (19-09-0812P) | The Honorable Steve Nagel, Mayor, City of Fountain Valley, 10200 Slater Avenue, Fountain Valley, CA 92708 | City Hall, 10200 Slater Avenue, Fountain Valley, CA 92708 | https://msc.fema.gov/portal/advanceSearch | Nov. 15, 2019 | 060218
Orange | City of Huntington Beach, (19-09-0812P) | The Honorable Erik Peterson, Mayor, City of Huntington Beach, 2000 Main Street, Huntington Beach, CA 92648 | City Hall, 2000 Main Street, Huntington Beach, CA 92648 | https://msc.fema.gov/portal/advanceSearch | Nov. 15, 2019 | 065034
Orange | City of Westminster, (19-09-0812P) | The Honorable Tri Ta, Mayor, City of Westminster, 8200 Westminster Boulevard, Westminster, CA 92683 | City Hall, 8200 Westminster Boulevard, Westminster, CA 92683 | https://msc.fema.gov/portal/advanceSearch | Nov. 15, 2019 | 060237
Orange | Unincorporated Areas of Orange County, (19-09-0812P) | The Honorable Lisa A. Bartlett, Chair, Board of Supervisors, Orange County, 333 West Santa Ana Boulevard, Santa Ana, CA 92701 | Orange County Flood Control Division, H.G. Osborne Building, 300 North Flower Street, 7th Floor, Santa Ana, CA 92703 | https://msc.fema.gov/portal/advanceSearch | Nov. 15, 2019 | 060212
Florida:
Clay | Unincorporated Areas of Clay County, (19-04-3655P) | The Honorable Mike Cella, Chairman, Clay County Board of County Commissioners, P.O. Box 1366, Green Cove Springs, FL 32043 | Clay County, Public Works Department, 5 Esplanade Avenue, Green Cove Springs, FL 32043 | https://msc.fema.gov/portal/advanceSearch | Nov. 22, 2019 | 120064
St. Johns | Unincorporated Areas of St. Johns County, (19-04-2832P) | Mr. Paul M. Waldron, Chair, St. Johns County Board of Commissioners, 500 San Sebastian View, St. Augustine, FL 32084 | St. Johns County Administration Building, 4020 Lewis Speedway, St. Augustine, FL 32084 | https://msc.fema.gov/portal/advanceSearch | Nov. 14, 2019 | 125147
Idaho:
Latah | City of Moscow, (18-10-1024P) | The Honorable Bill Lambert, Mayor, City of Moscow, P.O. Box 9203, Moscow, ID 83843 | Paul Mann Building, 221 East 2nd Street, Moscow, ID 83843 | https://msc.fema.gov/portal/advanceSearch | Nov. 20, 2019 | 160090
Indiana:
Hamilton | City of Carmel, (19-05-0850P) | The Honorable James Brainard, Mayor, City of Carmel, City Hall, 1 Civic Square, Carmel, IN 46032 | Department of Community Services, 1 Civic Square, Carmel, IN 46032 | https://msc.fema.gov/portal/advanceSearch | Nov. 21, 2019 | 180081
Hamilton | City of Noblesville, (19-05-0850P) | The Honorable John Ditslear, Mayor, City of Noblesville, City Hall, 16 South 10th Street, Noblesville, IN 46060 | City Hall, Department of Planning and Zoning, 16 South 10th Street, Suite 150, Noblesville, IN 46060 | https://msc.fema.gov/portal/advanceSearch | Nov. 21, 2019 | 180082
Hamilton | Town of Fishers (19-05-0850P) | The Honorable Scott Fadness, Mayor, Town of Fishers, City Hall, 1 Municipal Drive, Fishers, IN 46038 | City Hall, 1 Municipal Drive, Fishers, IN 46038 | https://msc.fema.gov/portal/advanceSearch | Nov. 21, 2019 | 180423
Hamilton | Unincorporated Areas of Hamilton County, (19-05-0850P) | The Honorable Steve Dillinger, President, Board of Hamilton County Commissioners, Hamilton County Government and Judicial Center, 1 Hamilton County Square, Suite 157, Noblesville, IN 46060 | Hamilton County Government and Judicial Center, 1 Hamilton County Square, Noblesville, IN 46060 | https://msc.fema.gov/portal/advanceSearch | Nov. 21, 2019 | 180080
Michigan:
Macomb | Township of Macomb, (18-05-5405P) | Ms. Janet Dunn, Supervisor, Township of Macomb, 54111 Broughton Road, Macomb, MI 48042 | Township Hall, 54111 Broughton Road, Macomb, MI 48042 | https://msc.fema.gov/portal/advanceSearch | Nov. 7, 2019 | 260445
Minnesota:
Olmsted | City of Rochester, (19-05-0734P) | The Honorable Kim Norton, Mayor, City of Rochester, City Hall, 201 4th Street Southeast, Room 281, Rochester, MN 55904 | City Hall, 201 4th Street Southeast, Rochester, MN 55904 | https://msc.fema.gov/portal/advanceSearch | Oct. 31, 2019 | 275246
Olmsted | Unincorporated Areas of Olmsted County (19-05-0734P) | Commissioner Jim Bier, Chairperson, Olmsted County Board of Commissioners, 151 4th Street Southeast, Rochester, MN 55904 | Olmsted County Government Center, 151 4th Street Southeast, Rochester, MN 55904 | https://msc.fema.gov/portal/advanceSearch | Oct. 31, 2019 | 270626
New York:
Rockland | Town of Ramapo, (19-02-0049P) | The Honorable Michael B. Specht, Supervisor, Town of Ramapo, Town Hall, 237 Route 59, Suffern, NY 10901 | Ramapo Office of the Building Inspector, 237 Route 59, Suffern, NY 10901 | https://msc.fema.gov/portal/advanceSearch | Dec. 20, 2019 | 365340
Ohio:
Hamilton | City of Cincinnati, (19-05-2371P) | The Honorable John Cranley, Mayor, City of Cincinnati, City Hall, 801 Plum Street, Suite 150, Cincinnati, OH 45202 | City Hall, 801 Plum Street, Cincinnati, OH 45202 | https://msc.fema.gov/portal/advanceSearch | Nov. 1, 2019 | 390210
Texas:
Tarrant | City of Arlington, (18-06-3755P) | The Honorable Jeff Williams, Mayor, City of Arlington, City Hall, 101 West Abram Street, Arlington, TX 76010 | City Hall, 101 West Abram Street, Arlington, TX 76010 | https://msc.fema.gov/portal/advanceSearch | Nov. 8, 2019 | 485454

[FR Doc. 2019-17578 Filed 8-15-19; 8:45 am]

BILLING CODE 9110-12-P